DEPARTMENT OF DEFENSE

Department of the Army

Availability for Non-Exclusive, Exclusive, or Partially Exclusive Licensing of U.S. Patent Applications Concerning Automated Inhalation Toxicology Exposure Systems

AGENCY: Department of the Army, DoD.

ACTION: Notice.

SUMMARY: In accordance with 35 U.S.C. 209 and 37 CFR part 404 announcement is made of the availability for licensing of the U.S. Patent Applications concerning “Automated Inhalation Toxicology Exposure Systems” list under SUPPLEMENTARY INFORMATION. The inventions listed have been assigned to the United States Government as represented by the Secretary of the Army, Washington, DC.

ADDRESSES: Commander, U.S. Army Medical Research and Materiel Command, Attn: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: 1. U.S. Patent Application No.: 09/919,741. Foreign rights are also available (PCT/US01/27077).

Title: Automated Inhalation Toxicology Exposure System.

Filing Date: July 31, 2001.

Description: A method of exposing an animal to an inhalant; acquiring near real time measurement of at least respiration during said exposing; and calculating a received dose of the inhalant in response to the near real time measurement of the at least respiration during said exposing. The method further includes to automatically controlling an environment of an inhalant chamber; automatically controlling a concentration of an inhalant in the inhalant chamber, and displaying near real time measurement data related to an animal in an inhalant chamber.

2. U.S. Patent Application No.: 10/166,228, which is a continuation-in-part of U.S. Patent Application 09/919,741, above.

Title: Inhalant System.

Filing Date: May 29, 2002.

Description: The present application relates, in general, to multi-animal inhalation exposure systems.

Luz D. Ortiz,
Army Federal Register Liaison Officer.

[FR Doc. 02-30568 Filed 12-2-02; 8:45 am]

BILLING CODE 3410-08-M